DEPARTMENT OF THE INTERIOR

Fish and Wildlife Service

[FWS-R5-ES-2023-N082; FXES11130500000-201-FF05E00000]

Endangered and Threatened Wildlife and Plants; Initiation of 5-Year Reviews of Five Northeastern Species

AGENCY: Fish and Wildlife Service, Interior.

ACTION: Notice of initiation of reviews; request for information.

SUMMARY: We, the U.S. Fish and Wildlife Service, are initiating 5-year reviews under the Endangered Species Act, as amended, for five northeastern species. A 5-year review is based on the best scientific and commercial data available at the time of the review. We are requesting submission of any such information that has become available since the previous 5-year review for each species.

DATES: To ensure consideration, please submit your written information by February 7, 2024. However, we will continue to accept new information about any listed species at any time.

ADDRESSES: For instructions on how and where to submit information, see Request for New Information and Table 2—Contacts under SUPPLEMENTARY INFORMATION.

FOR FURTHER INFORMATION CONTACT:

General Information: Martin Miller, 413-253-8615 (phone), martin_miller@fws.gov (email), and via U.S. mail at U.S. Fish and Wildlife Service, 300 Westgate Center Drive, Hadley, MA 01035.

Species-Specific Information and Submission of Comments: Contact the appropriate person or office listed in Table 2—Contacts in SUPPLEMENTARY INFORMATION.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), are initiating 5-year reviews under the Endangered Species Act, as amended (ESA; 16 U.S.C. 1531 et seq.), for five northeastern species: the endangered clubshell (Pleurobema clava) and northern riffleshell (Epioblasma rangiana) and threatened Chittenango ovate amber snail (Novisuccinea chittenangoensis), Knieskern's beaked-rush (Rhynchospora knieskernii), and Puritan tiger beetle (Ellipsoptera puritana).

A 5-year review is based on the best scientific and commercial data available at the time of the review. We are requesting submission of any such information that has become available since the most recent status review for each species.

Why do we conduct 5-year reviews and species status assessments?

Under the ESA, we maintain Lists of Endangered and Threatened Wildlife and Plants (which we collectively refer to as the List) in title 50 of the Code of Federal Regulations at 50 CFR 17.11(h) (for wildlife) and 50 CFR 17.12(h) (for plants). Listed wildlife and plants can also be found at https://ecos.fws.gov/tess_public/pub/listedAnimals.jsp and https://ecos.fws.gov/tess_public/pub/listedPlants.jsp, respectively. Section 4(c)(2)(A) of the ESA requires us to review each listed species' status at least once every 5 years. Our regulations at 50 CFR 424.21 require that we publish a notice in the Federal Register announcing species under active review. For additional information about 5-year reviews, refer to our fact sheet at https://www.fws.gov/endangered/what-we-do/recovery-overview.html.

What species are under review?

We are initiating 5-year status reviews of the species in table 1.

Table 1—Species Under Review
Common name | Scientific name | Status | Where listed | Listing date and citation
Clubshell | Pleurobema clava | Endangered | Wherever found | 1/22/1993, 58 FR 5638.
Northern riffleshell | Epioblasma rangiana | Endangered | Wherever found | 1/22/1993, 58 FR 5638.
Chittenango ovate amber snail | Novisuccinea chittenangoensis | Threatened | Wherever found | 7/3/1978, 43 FR 28932.
Knieskern's beaked-rush | Rhynchospora knieskernii | Threatened | Wherever found | 7/18/1991, 56 FR 32978.
Puritan tiger beetle | Ellipsoptera puritana | Threatened | Wherever found | 8/7/1990, 55 FR 32088.

What information do we consider in our 5-year reviews and species status assessments?

A 5-year review considers all new information available at the time of the review. In conducting the review, we consider the best scientific and commercial data that have become available since the most recent status review. We are seeking new information specifically regarding:

(1) Species biology, including but not limited to life-history and habitat requirements and impact tolerance thresholds;

(2) Historical and current population conditions, including but not limited to population abundance, trends, distribution, demographics, and genetics;

(3) Historical and current habitat conditions, including but not limited to amount, distribution, and suitability;

(4) Historical and current threats, threat trends, and threat projections in relation to the five listing factors (as defined in section 4(a)(1) of the ESA);

(5) Conservation measures for the species that have been implemented or are planned; and

(6) Other new information, data, or corrections, including but not limited to taxonomic or nomenclatural changes, identification of erroneous information contained in the List, and improved analytical methods.

Any new information received will be considered during the 5-year review and will also be useful in evaluating ongoing recovery programs for the species.

Request for New Information

To ensure that 5-year reviews are based on the best available scientific and commercial information, we request new information from all sources. If you submit information, please support it with documentation such as maps, bibliographic references, methods used to gather and analyze the data, and/or copies of any pertinent publications, reports, or letters by knowledgeable sources.

How do I ask questions or provide information?

Please submit your questions, comments, and materials to the appropriate contact in table 2, below.

Public Availability of Comments

Before including your address, phone number, electronic mail address, or other personal identifying information in your submission, you should be aware that your entire submission—including your personal identifying information—may be made publicly available at any time. Although you can request that personal information be withheld from public review, we cannot guarantee that we will be able to do so.

Contacts

New information on the species covered in this notice should be submitted by mail or electronic mail to the appropriate contact shown in table 2, by the deadline provided above in DATES.

Table 2—Contacts
Species | Contact person, email, phone | Contact address
Clubshell | Robert Anderson, robert_m_anderson@fws.gov, 814-206-7447 | U.S. Fish and Wildlife Service, Pennsylvania Field Office, 110 Radnor Road, Suite 101, State College, PA 16801-7987.
Northern riffleshell | Robert Anderson, robert_m_anderson@fws.gov, 814-206-7447 | U.S. Fish and Wildlife Service, Pennsylvania Field Office, 110 Radnor Road, Suite 101, State College, PA 16801-7987.
Chittenango ovate amber snail | John Wiley, john_wiley@fws.gov, 607-753-9334 | U.S. Fish and Wildlife Service, New York Field Office, 3817 Luker Road, Cortland, NY 13045-9385.
Knieskern's beaked-rush | Rebecca Klee, rebecca_klee@fws.gov, 609-382-5265 | U.S. Fish and Wildlife Service, New Jersey Field Office, 4 E Jimmie Leeds Road, Suite 4, Galloway, NJ 08205.
Puritan tiger beetle | Kathleen Cullen, kathleen_cullen@fws.gov, 410-573-4579 | U.S. Fish and Wildlife Service, Chesapeake Bay Field Office, 177 Admiral Cochrane Drive, Annapolis, MD 21401-7307.

Authority

We publish this document under the authority of the Endangered Species Act of 1973, as amended (16 U.S.C. 1531 et seq.).

Wendi Weber,
Regional Director, Northeast Region.

[FR Doc. 2024-00076 Filed 1-5-24; 8:45 am]

BILLING CODE 4333-15-P